FEDERAL COMMUNICATIONS COMMISSION

47 CFR Part 52

[WC Docket No. 13-97, 04-36, 07-243, 10-90 and CC Docket No. 95-116, 01-92, and 99-200; FCC 15-70]

Numbering Policies for Modern Communications, IP-Enabled Services, Telephone Number Requirements for IP-Enabled, Services Providers, Telephone Number Portability et al.

AGENCY: Federal Communications Commission.

ACTION: Final rule; correction

SUMMARY: The Commission published in the Federal Register of October 29, 2015, a document concerning an (Order) establishing an authorization process to enable interconnected VoIP providers that choose direct access to request numbers directly from the Numbering Administrators. Next, this document sets forth several conditions designed to minimize number exhaust and preserve the integrity of the numbering system. Finally, this document modifies Commission's rules in order to permit VoIP Positioning Center (VPC) providers to obtain pseudo-Automatic Number Identification (p-ANI) codes directly from the Numbering Administrators for purposes of providing E911 services. These relatively modest steps will have lasting, positive impacts for consumers and the communications industry as we continue to undergo technology transitions.

DATES: Effective January 11, 2016,

FOR FURTHER INFORMATION CONTACT: Marilyn Jones, Wireline Competition Bureau, Competition Policy Division, (202) 418-1580, or send an email to marilyn.jones@fcc.gov.

SUPPLEMENTARY INFORMATION: The Commission published a document in the Federal Register of October 29, 2015, (80 FR 66454), amending § 52.5 of the Commission's rules.

In Final rule FR Doc. 2015-20900 published on October 29, 2015, (80 FR 66477), make the following correction. On page 66477, in the third column, paragraph 2 in § 52.5, remove the title “Central office code administration” and revise it to read “Definitions”.

Federal Communications Commission.
Sheryl Todd,
Deputy Secretary.

[FR Doc. 2016-00211 Filed 1-8-16; 8:45 am]

BILLING CODE 6712-01-P